Executive Order 13672 of July 21, 2014

Further Amendments to Executive Order 11478, Equal Employment Opportunity in the Federal Government, and Executive Order 11246, Equal Employment Opportunity

By the authority vested in me as President by the Constitution and the laws of the United States of America, including 40 U.S.C. 121, and in order to provide for a uniform policy for the Federal Government to prohibit discrimination and take further steps to promote economy and efficiency in Federal Government procurement by prohibiting discrimination based on sexual orientation and gender identity, it is hereby ordered as follows:

Section 1. Amending Executive Order 11478. The first sentence of section 1 of Executive Order 11478 of August 8, 1969, as amended, is revised by substituting “sexual orientation, gender identity” for “sexual orientation”.

Sec. 2. Amending Executive Order 11246. Executive Order 11246 of September 24, 1965, as amended, is hereby further amended as follows:

(a) The first sentence of numbered paragraph (1) of section 202 is revised by substituting “sex, sexual orientation, gender identity, or national origin” for “sex, or national origin”.

(b) The second sentence of numbered paragraph (1) of section 202 is revised by substituting “sex, sexual orientation, gender identity, or national origin” for “sex or national origin”.

(c) Numbered paragraph (2) of section 202 is revised by substituting “sex, sexual orientation, gender identity, or national origin” for “sex or national origin”.

(d) Paragraph (d) of section 203 is revised by substituting “sex, sexual orientation, gender identity, or national origin” for “sex or national origin”.

Sec. 3. Regulations. Within 90 days of the date of this order, the Secretary of Labor shall prepare regulations to implement the requirements of section 2 of this order.

Sec. 4. General Provisions. (a) Nothing in this order shall be construed to impair or otherwise affect:

(i) the authority granted by law to an agency or the head thereof; or

(ii) the functions of the Director of the Office of Management and Budget relating to budgetary, administrative, or legislative proposals.

(b) This order is not intended to, and does not, create any right or benefit, substantive or procedural, enforceable at law or in equity by any party against the United States, its departments, agencies, or entities, its officers, employees, or agents, or any other person.

Sec. 5. Effective Date. This order shall become effective immediately, and section 2 of this order shall apply to contracts entered into on or after the effective date of the rules promulgated by the Department of Labor under section 3 of this order.

THE WHITE HOUSE,

July 21, 2014.

[FR Doc. 2014-17522

Filed 7-22-14; 11:15 am]

Billing code 3295-F4